DEPARTMENT OF COMMERCE

International Trade Administration

Industry Sector Advisory Committee on Chemicals and Allied Products for Trade Policy Matters (ISAC 3); Continuation of Request for Nominations

AGENCY: International Trade Administration, Trade Development.

ACTION: Continuation of request for nominations.

SUMMARY: The Secretary of Commerce (Commerce) and the United States Trade Representative (USTR) continue to seek nominations for appointment of an environmental representative to the Industry Sector Advisory Committee on Chemicals and Allied Products for Trade Policy Matters (ISAC 3; see Federal Register notice, Vol. 65, Number 149, 47405-47406, dated August 2, 2000, and Federal Register notice, Vol. 65, Number 189, 58264-58265, dated September 28, 2000). Appointment will be effective for the charter term of this Committee, which expires March 17, 2002. In order to be considered for appointment to the Committee, a nominee must be a U.S. citizen, must represent a U.S. organization with an interest in environmental issues relevant to the work of the Committee, and may not be a registered foreign agent under the Foreign Agents Registration Act. Nominees' special interest in and knowledge of environmental, trade and sectoral issues will be considered.

This Notice will remain in effect for the duration of the current charter period; however, priority will be given to nominations received by April 30, 2000. Nominations will be considered as they are received. Recruitment information is available on the International Trade Administration website at http://www.ita.doc.gov/icp.

FOR FURTHER INFORMATION CONTACT: Further inquiries may be directed to Ingrid Mitchem, Director, Industries Consultations Program, U.S. Department of Commerce, 14th and Constitution Avenue, NW., Room 2015-B, Washington, DC 20230 or Christina Sevilla, Acting Assistant USTR for Intergovernmental Affairs, Winder Building, Room 100, 600 17th Street NW., Washington, DC 20580.

SUPPLEMENTARY INFORMATION:

Background

In section 135 of the 1974 Trade Act, as amended (19 U.S.C. 2155), Congress established a private-sector advisory system to ensure that U.S. trade policy and trade negotiation objectives adequately reflect U.S. commercial and economic interests. Section 135(a)(1) of the 1974 Trade Act directs the President to

seek information and advice from representative elements of the private sector and the non-Federal governmental sector with respect to:

(A) negotiating objectives and bargaining positions before entering into a trade agreement under [title I of the 1974 Trade Act and section 1102 of the Omnibus Trade and Competitiveness Act of 1988];

(B) the operation of any trade agreement once entered into; including preparation for dispute settlement panel proceedings to which the United States is a party; and

(C) other matters arising in connection with the development, implementation, and administration of the trade policy of the United States * * *

Section 135(c)(2) of the 1974 Trade Act provides—

(2) The President shall establish such sectoral or functional advisory committees as may be appropriate. Such committees shall, insofar as is practicable, be representative of all industry, labor, agricultural, or service interests (including small business interests) in the sector or functional areas concerned. In organizing such committees, the United States Trade Representative and the Secretaries of Commerce, Labor, Agriculture, the Treasury, or other executive departments, as appropriate, shall—

(A) consult with interested private organizations; and

(B) take into account such factors as—

(i) patterns of actual and potential competition between United States industry and agriculture and foreign enterprise in international trade,

(ii) the character of the nontariff barriers and other distortions affecting such competition,

(iii) the necessity for reasonable limits on the number of such advisory committees,

(iv) the necessity that each committee be reasonably limited in size, and

(v) in the case of each sectoral committee, that the product lines covered by each committee be reasonably related.

Pursuant to this provision, Commerce and USTR have established and co-chair seventeen Industry Sector Advisory Committees (ISACs) and four Industry Functional Advisory Committees (IFACs). The Committees' efforts have resulted in strengthening U.S. negotiating positions by enabling the United States to display a united front when it negotiates trade agreements with other nations. This committee has a past practice of meeting on a monthly basis. Members serve without compensation and are responsible for all expenses incurred in attending committee meetings. For additional information regarding the functions and membership of this committee and general qualifications for membership, see 64 FR 10448-10449, March 4, 1999 (Volume 64, Number 42). Commerce and USTR now solicit nominations for qualified environmental representatives to serve on ISAC 3 (Chemicals and Allied Products). For further background regarding this solicitation, see Federal Register notice, Vol. 65, Number 149, 47405-47406, dated August 2, 2000, and Federal Register notice, Vol. 65, Number 189, 58264-58265, dated September 28, 2000).

Eligibility

Eligibility to serve as an environmental representative on ISAC 3 is limited to U.S. citizens who are not full-time employees of a governmental entity, who represent a “U.S. entity” that is an organization interested in environmental issues relevant to the work of the committee, and who are not registered with the Department of Justice under the Foreign Agents Registration Act. For purposes of the preceding sentence, a “U.S. entity” is an organization incorporated in the United States (or, if unincorporated, having its headquarters in the United States):

(1) That is controlled by U.S. citizens or by another U.S. entity. An entity is not a U.S. entity if more than 50 percent of its Board of Directors or membership is made up of non-U.S. citizens. If the nominee is to represent an organization more than 10 percent of whose Board of Directors or membership is made up of non-U.S. citizens, or non-U.S. entities, the nominee must demonstrate at the time of nomination that this non-U.S. interest does not constitute control and will not adversely affect his or her ability to serve as a trade advisor to the United States; and

(2) At least 50 percent of whose annual revenue is attributable to non-governmental, U.S. sources.

Selection Criteria

USTR and Commerce will select an environmental representative eligible for appointment to ISAC 3 based upon the following:

(1) The organization to be represented will be considered based on environmental interest in trade policies in the sector relevant to the work of the committee.

(2) The nominee should demonstrate personal interest in and knowledge of the formulation of environmental policies in the sector relevant to the work of the Committee, and ability to work with governmental officials and industry representatives to reach consensus on complex environmental and trade issues affecting the relevant industry sector.

(3) Preference will be accorded nominees who also demonstrate knowledge of and familiarity with the relevant industry sector, as well as with international trade matters, including trade policy development, relevant to that sector.

The environmental representative, as a member of the Committee, will be required to have a security clearance. Members serve without compensation and are responsible for all expenses incurred in attending Committee meetings.

Application Procedures

Requests for applications should be sent to the Director of the Industry Consultations Program, U.S. Department of Commerce, 14th and Constitution Avenue, NW, Room 2015-B, Washington, DC 20230.

This notice is issued under the Federal Advisory Committee Act (5 U.S.C., app. 2) and 21 CFR part 14 relating to advisory committees.

Dated: March 26, 2001.
Jonathan C. Menes,
Acting Assistant Secretary for Trade Development.

[FR Doc. 01-7930 Filed 3-29-01; 8:45 am]

BILLING CODE 3510-DR-U